DEPARTMENT OF THE TREASURY

Office of Foreign Assets Control

Notice of OFAC Sanctions Actions; Sanctions Actions Pursuant to Executive Order 14024

AGENCY: Office of Foreign Assets Control, Treasury.

ACTION: Notice.

SUMMARY: The U.S. Department of the Treasury's Office of Foreign Assets Control (OFAC) is publishing the name of an aircraft identified as blocked property that has been removed from OFAC's List of Specially Designated Nationals and Blocked Persons (SDN List). Property and interests in property relating to this aircraft are no longer blocked, and U.S. persons are no longer generally prohibited from engaging in transactions relating to this aircraft.

DATES: OFAC's action described in this notice was effective on August 9, 2024.

FOR FURTHER INFORMATION CONTACT: OFAC: Bradley T. Smith, Director, tel.: 202-622-2490; Associate Director for Global Targeting, tel.: 202-622-2420; Assistant Director for Licensing, tel.: 202-622-2480; Assistant Director for Regulatory Affairs, tel.: 202-622-4855; or the Associate Director for Sanctions Enforcement, Compliance & Analysis, tel.: 202-622-2490.

SUPPLEMENTARY INFORMATION:

Electronic Availability

The SDN List and additional information concerning OFAC sanctions programs are available from OFAC's website at http://www.treasury.gov/ofac.

Notice of OFAC Actions

On August 9, 2024, OFAC removed from the SDN List the aircraft listed below, that was previously subject to prohibitions imposed pursuant to Executive Order 14024 of April 15, 2021, “Blocking Property With Respect To Specified Harmful Foreign Activities of the Government of the Russian Federation,” 86 FR 20249, 3 CFR, 2021 Comp., p. 542 (Apr. 15, 2021) (E.O. 14024).

Aircraft

1. P4-MIS; Aircraft Manufacture Date 31 May 2007; Aircraft Model Airbus A319-115; Aircraft Manufacturer's Serial Number (MSN) 3133; Aircraft Tail Number P4-MIS; Secondary sanctions risk: See Section 11 of Executive Order 14024. (aircraft) [RUSSIA-EO14024] (Linked To: VEKSELBERG, Viktor Feliksovich).

Dated: August 9, 2024.
Lawrence M. Scheinert,
Acting Deputy Director, Office of Foreign Assets Control, U.S. Department of the Treasury.

[FR Doc. 2024-18274 Filed 8-14-24; 8:45 am]

BILLING CODE 4810-AL-P